DEPARTMENT OF VETERANS AFFAIRS

MyVA Federal Advisory Committee; Notice of Meeting

The Department of Veterans Affairs (VA) gives notice under the Federal Advisory Committee Act, 5 U.S.C. App.2., that the MyVA Advisory Committee (MVAC) will meet October 14 and 15, 2015 at the Department of Veterans Affairs, James A. Haley Veterans Hospital, 13000 Bruce B. Downs Blvd., Tampa, FL 33612, and the James A. Haley Veterans Hospital Primary Care Annex, 13515 Lake Terrace Lane, Tampa, FL 33637.

The purpose of the Committee is to advise the Secretary, through the Executive Director, My VA Task Force Office regarding the My VA initiative and VA's ability to rebuild trust with Veterans and other stakeholders, improve service delivery with a focus on Veteran outcomes, and set the course for longer-term excellence and reform of VA.

On October 14 from 8:00 a.m. to 1:00 p.m., the Committee will convene a closed session in order to protect patient privacy as the Committee tours the VA Sunshine Healthcare Network, Patient Care Annex. 5 U.S.C. 552b(b)(6). In the afternoon from 1:00 p.m. to 5:30 p.m., the Committee will reconvene in an open session to discuss the progress on and the integration of the work in the five key MyVA work streams—Veteran Experience (explaining the efforts conducted to improve the Veteran's experience), Employees Experience, Support Services Excellence (such as information technology, human resources, and finance), Performance Improvement (projects undertaken to date and those upcoming), and VA Strategic Partnerships.

On October 15, from 8:00 a.m. to 4:00 p.m., the Committee will meet at the James A. Haley Veterans Hospital Primary Care Annex, 13515 Lake Terrace Lane, Tampa, FL 33673, to discuss and recommend areas for improvement on VA's work to date, plans for the future, and integration of the MyVA efforts. This session is open to the public. No time will be allocated at this meeting for receiving oral presentations from the public. However, the public may submit written statements for the Committee's review to Debra Walker, Designated Federal Officer, MyVA Program Management Office, Department of Veterans Affairs, 1800 G Street NW., Room 880-40, Washington, DC 20420, or email at Debra.Walker3@va.gov. Any member of the public wishing to attend the meeting or seeking additional information should contact Ms. Walker.

Because the meeting will be held in a Government building, anyone attending must be prepared to show a valid photo government issued ID. Please allow 15 minutes before the meeting begins for this process.

Dated: September 16, 2015.
Jelessa Burney,
Federal Advisory Committee Management Officer.

[FR Doc. 2015-23627 Filed 9-18-15; 8:45 am]

BILLING CODE P